COMMISSION ON CIVIL RIGHTS

Agenda and Notice of Public Meeting of the Utah Advisory Committee

Notice is hereby given, pursuant to the provisions of the rules and regulations of the U.S. Commission on Civil Rights and the regulations of the Federal Advisory Committee Act (FACA), that a meeting of the Utah Advisory Committee will convene at 6 p.m. and adjourn at 8 p.m. (MST) on Wednesday, August 20, 2008 at the Hilton City Center, 255 South West Temple, Salt Lake City, UT 84101.

The purpose of the meeting is for the committee to discuss recent Commission and regional activities, discuss current civil rights issues in the state as well as issues raised during the forum on civil rights issues affecting American Indians in Utah (held Dec. 2006), and plan future activities.

Persons desiring additional information, or planning a presentation to the Committee, should contact Malee V. Craft, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission and FACA.

Dated in Washington, DC, July 31, 2008.
Christopher Byrnes,
Chief, Regional Programs Coordination Unit.

[FR Doc. E8-17980 Filed 8-5-08; 8:45 am]

BILLING CODE 6335-01-P